DEPARTMENT OF COMMERCE

Foreign-Trade Zones Board

[Docket 40-2004]

Foreign-Trade Zone 153—San Diego, CA; Application for Subzone Status; Callaway Golf Company Facilities (Golf Clubs), Carlsbad, CA

An application has been submitted to the Foreign-Trade Zones Board (the Board) by the City of San Diego, California, grantee of FTZ 153, requesting special-purpose subzone status for the golf club manufacturing facilities of Callaway Golf Company (Callaway), located in Carlsbad, California. The application was submitted pursuant to the provisions of the Foreign-Trade Zones Act, as amended (19 U.S.C. 81a-81u), and the regulations of the Board (15 CFR part 400). It was formally filed on August 27, 2004.

The proposed subzone would include Callaway's manufacturing and warehousing facilities at four sites in Carlsbad (San Diego County), California: Site 1 (four buildings)” Building 1 (manufacturing/7 acres/128,000 sq.ft. under roof)—2285 Rutherford Road, located adjacent to the McClellen-Palomar Airport; Building 2 (2 acres/38,000 sq.ft.)—5928 Pascal Court, located immediately to the west of Building 1; Building 3 (manufacturing, warehousing/5 acres/73,000 sq.ft.)—5960 Pascal Court, located to the rear of Building 2; Building 8 (2 acres/20,000 sq.ft.)—2261 Rutherford Road, located immediately to the west of Building 2; Site 2—Headquarters Building (manufacturing/11 acres/245,000 sq. ft.)—2180 Rutherford Road, located about 1,500 feet to the west of Site 1; Site 3 (three buildings)—Building 5 (research and development/5 acres/63,000 sq.ft.)—5858 Dryden Place, located about three-fourths of a mile southwest of Site 2; and, Building 6 (testing and development/9 acres/10,000 sq.ft.)—5860 Dryden Place, located adjacent to Building 5; and, Grounds Keeping Building (960 sq.ft.)—5825 Dryden Place; Site 4—Building 7 (warehousing/9 acres/150,000 sq.ft./leased)—2081 Faraday Avenue, located approximately 900 feet to the west of Site 2.

The facilities (2,000 employees) are used to produce golf clubs (drivers/fairway woods, irons, putters) and to distribute U.S. and foreign-made golf clubs, parts of golf clubs, and accessories for export and the U.S. market. The golf club manufacturing process at the facilities involves machining and assembly, and could produce up to 13 million units annually. Components purchased from abroad (about 35% of finished golf club value) used in manufacturing and production may include: parts of golf clubs (heads and parts of heads, shafts, grips, head covers, divot tools), glues, adhesives, plastic plugs and ferrules, leather golf bags, golf bags of textile materials (Textile Categories 369 and 870; would be admitted under privileged foreign (PF) status (19 CFR 146.41)), name plates, medallions, and plates (duty rate range: free—20%, ad valorem). Additional foreign-sourced components and accessories to be distributed to the U.S. market and export include: golf clubs, parts of golf clubs, golf balls, plugs, ferrules, leather luggage/briefcases/shoe cases/golf gloves/duffel bags, leather golf bags, umbrellas, metal boxes and lids, name plates, table decorations of iron or steel; and, the following items classified within Textile Categories 331/631/831, 359/459/659/859, 363/369/669, 670/870: golf bags of textile materials, pouches, hats/caps/visors, towels, and golf gloves of textile materials (to be admitted under PF status).

FTZ procedures would exempt Callaway from Customs duty payments on the foreign component inputs used in export production. On its domestic sales and exports to NAFTA markets, the company would be able to choose the duty rate that applies to finished golf clubs (4.4%) for the foreign-sourced inputs noted above. Callaway would be able to defer Customs duty payments on the foreign-origin golf clubs and accessories that would be admitted to the proposed subzone for U.S. distribution. The application indicates that subzone status would help improve the facilities' international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building-Suite 4100W, 1099 14th Street, NW., Washington, DC 20005; or,

2. Submissions via the U.S. Postal Service: Foreign-Trade Zones Board, U.S. Department of Commerce, FCB-4100W, 1401 Constitution Ave., NW., Washington, DC 20230.

The closing period for their receipt is November 2, 2004. Rebuttal comments in response to material submitted during the foregoing period may be submitted during the subsequent 15-day period (to November 17, 2004).

A copy of the application will be available for public inspection at the Office of the Foreign-Trade Zones Board's Executive Secretary at address No.1 listed above and at the U.S. Department of Commerce Export Assistance Center, Suite 230, 6363 Greenwich Drive, San Diego, CA 92122.

Dated: August 27, 2004.
Dennis Puccinelli,
Executive Secretary.

[FR Doc. 04-20152 Filed 9-2-04; 8:45 am]

BILLING CODE 3510-DS-P